DEPARTMENT OF AGRICULTURE

Forest Service

Chequamegon Resource Advisory Committee

AGENCY: Forest Service, USDA.

ACTION: Notice of meeting.

SUMMARY: The Nicolet Resource Advisory Committee will meet in Crandon, Wisconsin. The committee is meeting as authorized under the Secure Rural Schools and Community Self-Determination Act (Pub. L. 110-343) and in compliance with the Federal Advisory Committee Act. The purpose is to hold the first meeting of the newly formed committee.

DATES: The meeting will be held on August 10, 2010, and will begin at 9:30 a.m.

ADDRESSES: The meeting will be held at the Forest County Courthouse, County Board Room, 200 East Madison Street, Crandon, WI. Written comments should be sent to Penny McLaughlin, Chequamegon-Nicolet National Forest, 4978 Hwy 8 West, Laona, WI 54541. Comments may also be sent via e-mail to pmclaughlin@fs.fed.us, or via facsimile to 715-674-2545.

All comments, including names and addresses when provided, are placed in the record and are available for public inspection and copying. The public may inspect comments received at Chequamegon-Nicolet National Forest, 4978 Hwy 8 West, Laona, WI 54541. Visitors are encouraged to call ahead to 715-674-4481 to facilitate entry into the building.

FOR FURTHER INFORMATION CONTACT: Penny McLaughlin, RAC coordinator, USDA, Chequamegon-Nicolet National Forest, 4978 Hwy 8 West, Laona, WI 54541; (715) 674-4481; E-mail pmclaughlin@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Introductions of all committee members, replacement members and Forest Service personnel; (2) Receive materials explaining the process for considering and recommending Title II projects; (3) Selection of a chairperson by the committee members; and (4) Public Comment. Persons who wish to bring related matters to the attention of the Committee may file written statements with the Committee staff before or after the meeting.

Dated: July 13, 2010.
Paul I. V. Strong,
Forest Supervisor.

[FR Doc. 2010-17676 Filed 7-19-10; 8:45 am]

BILLING CODE 3410-11-P